DEPARTMENT OF COMMERCE

[Docket No. 080123079-8081-01]

RIN 0648-XF35

Notice of Funding Availability for Postsecondary Internship Program

AGENCY: Office of Human Resources Management, U.S. Department of Commerce.

ACTION: Notice and request for proposals.

SUMMARY: The Department of Commerce (DOC) established a postsecondary internship program to aid and promote experiential training activities which foster future employment opportunities within DOC and the Federal Government in general. United States citizens enrolled as students in post-secondary accredited educational institutions, i.e., community college, undergraduate, graduate, post-graduate, and professional institutions will participate in onsite work experiences in DOC bureaus and offices in order to: integrate academic theory and workplace requirements, gain relevant skills and knowledge, explore federal career options, develop professional networks, and develop a greater awareness of the role of federal agencies. The program will be administered through a partnership between DOC and nonprofit and/or educational institution(s) of higher education and funded by cooperative agreement(s).

The DOC will serve as host for the student interns and provide program support through the financial assistance award. There will be no employer-employee relationship between DOC and its hosted interns. The nonprofit and/or educational institution will be the supervisor of record for the intern and shall control the means and manner of the interns' activities. This notice solicits proposals from eligible institutions that desire to collaborate with the DOC on this initiative.

DATES: Proposals must be received through Grants.gov no later than 5 p.m. Eastern Standard Time, March 3, 2008. If applicants submit through surface mail, proposals must be received no later than 5 p.m. EST, March 3, 2008. For proposals submitted through Grants.gov, a date and time receipt indication by Grants.gov will be the basis of determining timeliness. Hard copy applications delivered by mail will be date and time stamped when they are received. Applications received after that time will not be reviewed or considered. Applications or portions of applications will not be accepted by email or via facsimile.

FOR FURTHER INFORMATION CONTACT: For a copy of the Federal Funding Opportunity (FFO) announcement for this request for proposals, please note the website below listed under “Electronic Access.” For a paper copy of the FFO, announcement contact Adam Santo, U.S. Department of Commerce, Office of Human Resources Management, 1401 Constitution Avenue, NW., Room 5204, Washington DC 20230, or via e-Mail at asanto@doc.gov, or via telephone at (202) 482-4286.

SUPPLEMENTARY INFORMATION:

Electronic Access: Applicants are advised to carefully read the FFO announcement for a detailed description of program information and application requirements. The FFO for the Postsecondary Internship Program is available via the Internet at: http://www.grants.gov.

Funding Availability: Projections based upon previous experience indicate an average availability of between $300,000-$1,000,000 to support from 25 up to about 100 interns. However, the exact level of funding available is not yet known until DOC and other agency host offices project their participation levels. Actual awards may differ from these estimates. Funding for the program listed in this notice is contingent upon the availability of Fiscal year 2008 appropriations under the Consolidated Appropriations Act, 2008 (Pub. L. 110-161).

Statutory Authority: Authority for the Postsecondary Internship Program is provided by 5 U.S.C. 7201, which requires that each Executive agency conduct a continuing program for the recruitment of members of minorities to address under representation of minorities in various categories of federal employment. Executive Order 13256 provides for Executive departments to enter into, among other things, cooperative agreements with Historically Black Colleges and Universities (HBCUs) to further the goals of the Executive Order, principally that of strengthening the capacity of HBCUs to provide quality education, and to increase opportunities to participate in and benefit from federal programs. Executive Order 13230 calls for increasing opportunities for Hispanic Americans to participate in and benefit from federal education programs. Executive Order 13270 helps ensure that greater federal resources are available to the tribal colleges. Executive Order 13216 directs federal agencies to increase participation of Asian and Pacific Islanders in federal programs. Applications will be accepted from any eligible institution, and applications for internships shall be accepted from all students meeting program eligibility criteria. Application, referral and selection processes shall be conducted without any consideration of race, ethnicity, gender, or other personal factors.

Catalog of Federal Domestic Assistance: 11.702-Internship Program for Postsecondary Students

Eligibility: Accredited universities, colleges and nonprofit organizations are eligible to apply. Eligible institutions may form joint ventures to submit a joint application to share costs and administration roles and responsibilities. In such cases, one of the institutions must be designated as the lead organization for purposes of receipt and overall accountability for any financial assistance award received under this program.

Cost Sharing or Matching Requirement: Cost sharing or matching is not required for the internship program.

Intergovernmental Review: Applications under this program are not subject to Executive Order 12372, “Intergovernmental Review of Federal Programs.”

Evaluation and Selection Procedures: Prior to the formal paneling process, each application will receive an initial screening to ensure that all required forms, signatures and documentation are present. Each application will receive an independent, objective review by a panel qualified to evaluate the applications submitted. The Independent Review Panel, consisting of at least three individuals (who are federal employees), will review all applications based on the criteria stated above. The Independent Review Panel will evaluate and rank the proposals. Each reviewer will evaluate and provide a score for each proposal. After all proposals are assigned a score, each proposal will be ranked according to the average total score given by reviewers. The final decision on awards will be based upon the proposal ranking, availability of funding, and the Selecting Official's (DOC Program Manager) determination of which proposals best meet the objectives of the program, specifically related to ensuring who will best reach the targeted audience of intern candidates. The amount of funds awarded to each recipient will be determined in pre-award negotiations between the applicant, the Grants Officer, and the DOC Program Manager.

Evaluation Criteria (total 100 points, plus 5 bonus points): The evaluation criteria and weighting of the criteria are as follows:

1. Quality of Program Plan (45 total points). Includes quality of strategy for outreach, recruitment, and publicity; procedures for collecting and evaluating applications; comprehensiveness of program design to include plans for onsite orientation for summer sessions; other program activities; and practicality of approach. This criterion is broken down into the following sub-criteria:

(1a.) Recruitment (20 points). DOC internship positions will require academic studies in the diverse fields of business, math, science and engineering. Recruitment must be conducted so that students who have the required academic background are identified for the program. Applications should be solicited from a broad range of students who meet defined program criteria such as U.S. citizenship, Grade Point Average (GPA) and academic standing.

(1b.) Outreach and Publicity (15 points). Must be conducted so that women and minorities that are underrepresented in the DOC are included in the target groups. Publicity should be conducted to inform academic institutions and students about upcoming program opportunities. Participation in the program must be open to all eligible students without regard to age, race, ethnicity, gender, or other pertinent factors.

(1c.) Other Program Activities (10 points). Includes procedures for collecting and evaluating applications, comprehensiveness of program design to include plans for onsite orientation for summer sessions, and other required program activities described in Section I.B of this FFO.

2. Proposed Costs (20 points). The proposed budget must be comprehensive and should include all costs for program personnel, fringe benefits, travel, equipment, supplies, and other associated items. The stipend level and other benefits (i.e., housing, local transportation, etc.) proposed for students should be stated in the budget and the budget narrative. Proposals should be based upon the cost of administering a summer program for 25 student interns and should include a per capita cost for additional interns. Proposals for a semester or quarter session (spring and fall) should be projected on the basis of 5 interns, and should include a per capita cost for additional interns. Actual awards may differ from these estimates.

3. Key Personnel Qualifications (15 points). This includes an assessment of the number, qualifications, and proposed roles of staff who will administer the internship program. Resumes of proposed personnel will facilitate the evaluation of the competency and experience of the proposed staff.

4. Capabilities of the Applicant Organization (20 points). This considers, among other things, previous experience and success administering similar programs, and staff and resources to assure adequate development, supervision, and execution of the proposed program. Additionally, an organization's commitment to educate/advance the education of women and minorities will be a consideration in evaluating this factor.

5. Bonus criteria: Accredited universities, colleges and nonprofit organizations that form joint ventures to increase the diversity of their talent pool and submit a joint application to share costs and administration roles and responsibilities will receive five (5) bonus points to their score.

Limitation of Liability: In no event will the DOC be responsible for proposal preparation costs if this program fails to receive funding or is cancelled because of other agency priorities. Publication of this announcement does not oblige the DOC to award any specific project or to obligate any available funds.

The Department of Commerce Pre-Award Notification Requirements for Grants and Cooperative Agreements: The Department of Commerce Pre-Award Notification Requirements for Grants and Cooperative Agreements contained in the Federal Register notice of December 30, 2004 (69 FR 78389) are applicable to this notice.

Paperwork Reduction Act: This document contains collection-of-information requirements subject to the Paperwork Reduction Act (PRA). The use of Standard Forms 424, 424A, 424B, SF-LLL, and CD-346 has been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866: This notice has been determined to be not significant for purposes of Executive Order 12866.

Executive Order 13132 (Federalism): It has been determined that this notice does not contain policies with Federalism implications as that term is defined in Executive Order 13132.

Administrative Procedure Act/Regulatory Flexibility Act: Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: January 25, 2008.
Deborah A. Jefferson,
Director for Human Resources Management, Department of Commerce.

[FR Doc. E8-1659 Filed 1-30-08; 8:45 am]

BILLING CODE 3510-BS-S